DEPARTMENT OF AGRICULTURE

National Agricultural Library

Notice of Stakeholder Listening Sessions Regarding Increasing Public Access to the Results of USDA-Funded Research

AGENCY: National Agricultural Library, Agricultural Research Service, U.S. Department of Agriculture.

ACTION: Notice of stakeholder listening sessions.

SUMMARY: The U.S. Department of Agriculture's (Department's) National Agricultural Library (NAL) announces virtual listening sessions to receive public comments, recommendations, and suggestions on the Department's planned response to new White House Office of Science and Technology Policy (OSTP) guidance on access to the results of federally-funded research. The Department's plan and policies apply to the results of research funded wholly or in part by any USDA component agency. This effort to obtain input regarding implementation of federal public access requirements will be carried out through online and virtual submission mechanisms. Stakeholder input received from the two mechanisms will be treated equally.

DATES:

Virtual Listening Sessions: Two listening sessions will be held to obtain virtual input from stakeholders throughout the United States. Stakeholders include members of the public, principal investigators, research institutions, libraries, scholarly publishers, scientific societies, agricultural organizations and associations, data scientists, data repositories, and other stakeholder groups. The first listening session will take place on September 27, 2023. The session will begin at 2 p.m. EST and is scheduled to end no later than 5 p.m. EST. The second listening session will take place on October 12, 2023. The session will begin at 10 a.m. EST and is scheduled to end no later than 1 p.m. EST. Each session will include brief remarks from USDA research leadership, followed by comments from stakeholders. Each registered speaker will receive five minutes to share their comments with the Agency. If time allows after all comments from registered speakers are made, unscheduled speakers will be allowed five minutes to present their comments to the Agency. The length of the sessions will be adjusted according to numbers of participants seeking to provide input.

Registration: All parties interested in attending the virtual listening sessions must RSVP no later than one week prior to the scheduled session. Each virtual listening session will be webcast and transcribed. Information about registering for the virtual sessions and viewing the webcast can be found at https://www.nal.usda.gov/about-us/events/public-access. This website includes instructions on submitting written comments and registering to attend or speak at the virtual listening session. All parties interested in attending the virtual listening session must RSVP no later than one week prior to the scheduled session they will attend.

If you need a reasonable accommodation or language access services to register for, or participate in, this event, please contact Cynthia Parr, National Agricultural Library, at Cynthia.Parr@usda.gov, or 301-837-8917.

Written Comments: Submission of written stakeholder input will be open upon publishing of this Notice through 5 p.m. EST on November 15, 2023 via the Federal eRulemaking portal as described below.

ADDRESSES:

Listening sessions: The virtual listening session Zoom links are shared upon registration for September 27, 2023 and October 12, 2023. All parties interested in attending the virtual listening session must RSVP no later than one week prior to the scheduled session.

Written comments: Written comments must be submitted via the Federal eRulemaking Portal at regulations.gov. Please go to www.regulations.gov to submit your comments electronically. Information on using regulations.gov, including instructions for accessing agency documents, submitting comments, and viewing the docket, is available at https://www.nal.usda.gov/about-us/events/public-access.

The Department will not accept comments submitted by fax, by email, or comments submitted after the comment period closes. To ensure that the Department does not receive duplicate copies, please submit your comments only once.

Privacy Note: The Department's policy is to make all comments received from members of the public available for public viewing on the Federal eRulemaking Portal at www.regulations.gov. Therefore, commenters should be careful to include in their comments only information that they wish to make publicly available.

FOR FURTHER INFORMATION CONTACT: Cynthia Parr, National Agricultural Library, at Cynthia.Parr@usda.gov, or 301-837-8917.

SUPPLEMENTARY INFORMATION:

Purpose: USDA seeks public input on its plans for enhancing policy, infrastructure, and outreach to make results of the research it funds more readily available and accessible by the public.

Background: USDA developed a public access plan in response to the February 22, 2013 OSTP memorandum entitled “Increasing Access to the Results of Federally Funded Scientific Research” and several White House memoranda. Current USDA policy and activities were developed from that original plan. On August 25, 2022, OSTP issued a new public access memorandum: “Ensuring Free, Immediate, and Equitable Access to Federally Funded Research.” In response to OSTP's 2022 memo, USDA will enhance policy, infrastructure, and outreach to make its scientific data and publications more readily available and accessible by the public, as described generally in the new plan, which can be viewed at: https://www.nal.usda.gov/services/public-access/. This listening effort, organized by the National Agricultural Library on behalf of the USDA Office of the Chief Scientist, allows stakeholders the opportunity to provide feedback on USDA's plan and to inform details of its policy-making and other implementation. The USDA Public Access plan and policies apply to the results of research funded wholly or in part by any USDA component agency. USDA provides the questions listed below to prompt feedback and comments. USDA encourages public comment on any or all of these questions, and also seeks any other information that commenters believe is relevant. The questions to enhance public access of USDA-funded research outcomes are:

• How can USDA best implement its plans to improve public access to USDA-funded research results?

• How can USDA update or refine its policies to improve public access to USDA-funded research results?

• How can USDA ensure equity in publication opportunities?

• How can USDA use partnerships to improve public access and accessibility to results of USDA-funded research?

• How can USDA monitor impacts on communities impacted by its public access policies?

Done at Washington, DC.
Simon Liu,
Administrator, Agricultural Research Service, U.S. Department of Agriculture.

[FR Doc. 2023-20579 Filed 9-21-23; 8:45 am]

BILLING CODE 3410-03-P